DEPARTMENT OF JUSTICE

Office of Justice Programs

[OJP (BJA) Docket No. 1763]

Notice of Renewal of the Charter for the Public Safety Officer Medal of Valor Review Board

AGENCY: Office of Justice Programs (OJP), Bureau of Justice Assistance (BJA), Justice.

ACTION: Renewal of the Charter.

SUMMARY: The Bureau of Justice Assistance provides notice that the charter of the Public Safety Officer Medal of Valor Review Board has been renewed.

FOR FURTHER INFORMATION CONTACT: Visit the website for the Public Safety Officer Medal of Valor Review Board at https://www.bja.gov/programs/medalofvalor/index.html or contact Gregory Joy, Policy Advisor, Bureau of Justice Assistance, Office of Justice Programs, 810 7th Street NW, Washington, DC 20531, by telephone at (202) 514-1369, toll free (866) 859-2687, or by email at Gregory.joy@usdoj.gov.

SUPPLEMENTARY INFORMATION: The Bureau of Justice Assistance provides notice that the charter of the Public Safety Officer Medal of Valor Review Board has been renewed.

The Charter for the Public Safety Officer Medal of Valor Review Board was submitted to the U.S. Attorney General, who subsequent approved its renewal on April 24, 2019. Following this approval, separate correspondence were mailed June 5, 2019, to: The Honorable Lindsey Graham, Chairman, Committee on the Judiciary, United States Senate; The Honorable Dianne Feinstein, Ranking Member, Committee on the Judiciary, United States Senate; The Honorable Jerrold Nadler, Chairman, Committee on the Judiciary, U.S. House of Representatives; The Honorable Doug Collins, Ranking Member, Committee on the Judiciary, U.S. House of Representatives; and Ms. Sara Striner, Chair, Federal Advisory Committee Desk, Library of Congress. This completes the process to renew the Charter for an additional 2-year period.

Gregory Joy,
Policy Advisor/Designated Federal Officer, Bureau of Justice Assistance.

[FR Doc. 2019-16987 Filed 8-7-19; 8:45 am]

BILLING CODE 4410-18-P